DEPARTMENT OF DEFENSE

Office of the Secretary

Proposed Collection; Comment Request

AGENCY: Defense Finance and Accounting Service, DoD.

ACTION: Notice.

SUMMARY: In compliance with Section 3506(c)(2)(A) of the Paperwork Reduction Act of 1995, the Defense Finance and Accounting Service announces the proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility and clarity of the information to be collected; and (d) ways to minimize the burden of the information collection on respondents, including through the use of automated collection techniques or other forms of information technology.

DATES: Consideration will be given to all comments received by February 27, 2001.

ADDRESSES: Written comments and recommendations on the proposed information collection should be sent to the Defense Finance and Accounting Service, ATTN: Lynne Anderson, 1931 Jefferson Davis Highway, CM#3-Second Floor, Arlington, VA 22240-5291.

FOR FURTHER INFORMATION CONTACT: To request more information on this proposed information collection or to obtain a copy of the proposal and associated collection instruments, please write to the above address, or call, DFAS, Studies & Analysis at (703) 607-3700.

Title, Associated Form, and OMB Number: Customer Satisfaction Surveys—Generic Clearance; OMB Number 0730-0003.

Needs and Uses: The information collection requirement is necessary to determine the kind and quality of services DFAS customers want and expect, as well as their satisfaction with DFAS's existing services.

Affected Public: Individuals or Households, Business or other for profit, Not-for-profit institutions, Federal Government, and State, Local or Tribal Governments.

Annual Burden Hours: Estimated 2,000

Number of Respondents: Estimated 15,000

Responses per Respondent: 1

Average Burden per Response: 8 minutes

Frequency: Annually

SUPPLEMENTARY INFORMATION:

Summary of Information Collection

DFAS will conduct a variety of activities to include, but not necessarily limited to customer satisfaction surveys, transaction based telephone interviews, Interactive Voice Response Systems (IVRS) telephonic surveys, etc. If the customer feedback activities were not conducted, DFAS would not only be in violation of E.O. 12862, but would also not have the knowledge necessary to provide the best service possible and provide unfiltered feedback from the customer for our process improvement activities. The information collected provides information about customer perceptions and can help identify agency operations that need quality improvement, provide early detection of process or systems problems, and focus attention on areas where customer service and functional training or changes in existing operations will improve service delivery.

Dated: December 22, 2000.
Patricia L. Toppings,
Alternate OSD Federal Register Liaison Officer, Department of Defense.

[FR Doc. 00-33279 Filed 12-28-00; 8:45 am]

BILLING CODE 5001-10-M